DEPARTMENT OF THE INTERIOR

[ID-095-9260-00]

Bureau of Land Management

AGENCY: Bureau of Land Management, Interior.

ACTION: Emergency shooting closure in Payette County

SUMMARY: This emergency shooting closure closes 5 acres of Public Land around the Wild West Fire Guard camp to all shooting of rifles, pistols, muzzle loaders, and shotguns. This is a year around closure. Shooting into or across the closure is prohibited. The closure boundaries will be posted. All law enforcement personnel or local, State or Federal officials are exempt from this closure while performing their official duties.

The legal description of the closure is: 5 acres on the west side of the quarter corner common to sections 11 and 16 in Township 6 North, Range 4 West, Boise Meridian, Payette County, Idaho.

Recent increased shooting activity around the camp from ground squirrel hunters and target shooters has created an unsafe situation. This shooting activity endangers the BLM Fire Fighters living and working in the camp. Recently, three bullet holes were found in the buildings in the camp.

EFFECTIVE DATE: This closure is effective when signed by the authorized officer and posted.

ADDRESSES: Lower Snake River District, 3948 Development Avenue, Boise, Idaho 83705.

FOR FURTHER INFORMATION CONTACT: Ranger Lynn Miracle, Four Rivers Field Office, (208) 384-3345.

SUPPLEMENTARY INFORMATION: Any person who fails to comply with a closure or restriction order issued under 43 CFR 8364.1 may be subject to the penalties provided in 43 CFR 8360.0-7.

Dated: July 18, 2001.
Katherine Kitchell,
Lower Snake River District Manager.

[FR Doc. 01-23189 Filed 9-17-01; 8:45 am]

BILLING CODE 4310-GG-P